NATIONAL SCIENCE FOUNDATION

Committee Management Renewal

The NSF management officials having responsibility Advisory Committee for International Science and Engineering (#25104) have determined that renewing this group for another two years is necessary and in the public interest in connection with the performance of duties imposed upon the Director, National Science Foundation by 42 U.S.C. 1861 et seq. This determination follows consultation with the Committee Management Secretariat, General Services Administration.

Effective date for renewal is May 23, 2007. For more information contact Susanne Bolton at (703) 292-7488.

Dated: May 4, 2007.
Susanne Bolton,
Committee Management Officer.

[FR Doc. E7-8857 Filed 5-8-07; 8:45 am]

BILLING CODE 7555-01-P